DEPARTMENT OF TRANSPORTATION

Office of the Secretary

[Docket No. DOT-OST-2008-0259; OMB Control No.: 2106-0009]

Pricing and Multilateral Affairs Division; Agency Information Collection Activities; Request for Comments; [Renewed Approval of] Information Collection: Exemption From Passenger Tariff-filing Requirements in Certain Instances, and Mandatory Electronic Filing of Residual Passenger Tariffs

AGENCY: Office of the Secretary (OST), U.S. Department of Transportation, (DOT).

ACTION: Notice and request for comments.

SUMMARY: In accordance with the Paperwork Reduction Act of 1995, Public Law 104-13, this notice announces the Department of Transportation (DOT), Office of the Secretary's (OST) intention to request clearance and renewal of a previously approved information collection. This Information Collection Request (ICR) describes the nature of the information collection and its expected burden. The purpose of this notice is to allow the public to submit comments on our application to renew ICR 2106-0009, 14 CFR Part 221—Constructing, Publications, Filing and Posting of Tariffs of Air Carriers and Foreign Air Carriers. The pre-existing information collection request previously approved by OMB expires on September 30, 2008.

DATES: Written comments should be submitted by: November 10, 2008.

ADDRESSES: For submitting comments: Federal eRulemaking Portal: Go to http://www.regulations.gov. Follow the online instructions for submitting comments.

Mail or Hand Delivery: U.S. Department of Transportation, Dockets Management Facility, 1200 New Jersey Avenue, SE., West Building, Room W12-140, Washington, DC 20590.

Fax comments: 202-493-2251.

FOR FURTHER INFORMATION CONTACT: John Kiser, 202-366-2435 or Bernice Gray, 202-366-2418, Pricing and Multilateral Affairs Division, Office of the Secretary, Department of Transportation, 1200 New Jersey Avenue, SE., Room W86-319 or W86-433, Washington, DC 20590. Office hours are from 9 a.m. to 5 p.m., Monday through Friday, except Federal holidays.

SUPPLEMENTARY INFORMATION: Title: Exemption from Passenger Tariff-filing Requirements in Certain Instances, and Mandatory Electronic Filing of Residual Passenger Tariffs.

OMB Control No.: 2106-0009.

Type of Request: Extension of a currently approved information collection.

Background: Section 41504 of Title 49 of the United States Code, requires every U.S. and foreign air carrier to file with the Department and keep open for public inspection, tariffs showing all prices for “foreign air transportation” between points served by that carrier, as well as all the rules relating to that transportation to the extent required by the Department. This requirement includes passenger fares, related charges and governing rules. The detailed tariff-filing rules and authority for approvals, rejections, and waivers are established by 14 CFR Part 221. Once tariffs are allowed to become effective by the Department, these tariffs become legally binding terms in the contract of carriage for international air transportation.

In several rulemaking proceedings, the Department determined that the amount of tariff material filed by carriers exceeded our regulatory requirements in certain respects; that alternative methods existed for protecting consumers and other elements of the public interest that are more effective than filed tariffs; and that procedures should be developed to foster the electronic filing and the review of those tariffs, which should continue to be filed. On November 30, 1995, the Department published a final rule (Exemption From Property Tariff-Filing Requirement for 14 CFR Parts 221 and 292, Docket No. 49827) exempting carriers from their regulatory duty to file tariffs for foreign air transportation of cargo.

In the final rule (Notice of Exemption from Passenger Tariff-Filing Requirements In Certain Instances, Docket OST-97-2050-12), issued July 21, 1999, the Department determined that the filing of certain tariffs with the Department for foreign air transportation of passengers is no longer necessary or appropriate, and accordingly granted another exemption from the tariff-filing requirement set forth in Part 221. The rule also required that all remaining tariffs be filed electronically. A substantial number of provisions in Part 221 were removed, where redundant or out-dated given present regulatory practices existed.

On October 7, 1999, the Assistant Secretary issued a notice under 14 CFR Part 293, Notice of Exemption from the Department's Tariff-Filing Requirement, Docket OST-97-2050-14, specifying the terms of the exemptions for markets in Category A (no fare filing(s), Category B (normal one-way economy fare filing(s) only or Category C (filing all fares), taking into account specific factors present in each market. The notice also specified which general rules must continue to be filed.

On September 12, 2005, the Assistant Secretary issued a Notice of Exemption from the Department's Tariff-Filing Requirements, Docket OST-97-2050-15, updating the list of countries added to the tariff-filing exemptions under 14 CFR 293 for country-pair markets, transferring more countries between categories, and increasing the number of exempted countries from the tariff-filing requirements.

On April 8, 2008, the Assistant Secretary issued a third notice (Notice of Exemption from the Department's Tariff-Filing Requirements, Docket OST-97-2050-18), updating the list of countries added to the tariff-filing exemptions under 14 CFR 293 for country-pair markets, transferring more countries between categories and increasing the number of exempted countries from the tariff-filing requirements. Most of the changes in the 2005 and 2008 notices moved countries into Category A (not fare filing(s), reflecting the increasing number of “open skies” air services agreements between the United States and its trading partners. The effect on the burden hours can not be determined at this time for the newest updated list of tariff-filing exemptions. Because of exemptions that have been granted to U.S. and foreign carriers from the statutory and regulatory duty to file international passenger tariffs for many markets, the burden of such filings has been substantially reduced. When the final rule was issued in July 1999, we estimated the total annual burden on respondents at 650,000 hours. In 2007, the Department received 45,840 electronic filings, with an estimated annual burden of 229,200 burden hours. This reflected the fact that fewer markets were subject to filing requirements, but the reduction was tempered somewhat by a higher frequency of filings in markets still subject to filing. Considering these offsetting factors, we anticipate a modest further reduction of burden in the future.

Respondents: The vast majority of the air carriers filing international tariffs are large operators with revenues in excess of several million dollars each year. Small air carriers operating aircraft with 60 seats or less and 18,000 pounds payload or less that offer on-demand air-taxi service are not required to file such tariffs.

Frequency: The information will be collected annually.

Estimated Average Burden per Response: 5 hours.

Estimated Total Annual Burden Hours: 229,200.

Public Comments Invited: You are asked to comment on any aspect of this information collection, including: (a) Whether the proposed collection of information is necessary for the proper performance of the functions of the Department, including whether the information will have practical utility; (b) the accuracy of the Department's estimate of the burden of the proposed information collection; (c) ways to enhance the quality, utility and clarity of the information collection; and (d) ways to minimize the burden of the collection of information on respondents, by the use of electronic means, including the use of automated collection techniques or other forms of information technology.

All responses to this notice will be summarized and included in the request for OMB approval. All comments will also become a matter of public record.

Authority: The Paperwork Reduction Act of 1995; 44 U.S.C. Chapter 35, as amended; and 49 CFR 1.48.

Issued On: August 29, 2008.
Patricia Lawton,
IT Policy Oversight, Office of the Chief Information Officer.

[FR Doc. E8-20851 Filed 9-8-08; 8:45 am]

BILLING CODE 4910-62-P